DEPARTMENT OF COMMERCE

International Trade Administration

[C-570-938]

Citric Acid and Certain Citrate Salts from the People's Republic of China: Intent To Rescind Countervailing Duty Administrative Review, in Part

AGENCY: Import Administration, International Trade Administration, Department of Commerce.

DATES: Effective Date: August 8, 2012.

FOR FURTHER INFORMATION CONTACT: Kristen Johnson, AD/CVD Operations, Office 3, Import Administration, International Trade Administration, U.S. Department of Commerce, Room 4014, 14th Street and Constitution Ave. NW., Washington, DC 20230, telephone: (202) 482-4793

SUPPLEMENTARY INFORMATION:

Background

On May 1, 2012, the Department of Commerce (the Department) published a notice of opportunity to request an administrative review of the countervailing duty (CVD) order on citric acid and certain citrate salts from the People's Republic of China.¹ On May 31, 2012, we received a request from Archer Daniels Midland Company, Cargill, Incorporated, and Tate & Lyle Ingredients Americas LLC, domestic producers of the subject merchandise and petitioners in the investigation (collectively, the Petitioners), to conduct an administrative review of Yixing-Union Biochemical Co., Ltd. (Yixing-Union).²

¹ See Antidumping or Countervailing Duty Order, Finding, or Suspended Investigation; Opportunity To Request Administrative Review, 77 FR 25679 (May 1, 2012).

² Petitioners also requested a review of RZBC Co., Ltd., RZCB Imp. & Exp. Co., Ltd., and RZBC (Juxian) Co., Ltd. (collectively, the RZBC Companies). See Letter from King & Spalding to the Department regarding “Request for Administrative Review,” dated May 31, 2012. This public document and all other public documents and public versions generated in the course of this review by the Department and interested parties are available to the public through Import Administration's Antidumping and Countervailing Duty Centralized Electronic Service System (IA ACCESS), located in Room 7046 of the main Department building.

On July 10, 2012, the Department published the notice of initiation of the administrative review for the review period January 1, 2011, through December 31, 2011 (POR), which covered Yixing-Union.³ On July 13, 2012, Yixing-Union submitted a letter to the Department certifying that it had no sales, shipments, or exports of subject merchandise to the United States during the POR. Petitioners did not comment on Yixing-Union's claim of no sales, shipments, or exports.

³ See Initiation of Antidumping and Countervailing Duty Administrative Reviews and Request for Revocation in Part, 77 FR 40565, 40573 (July 10, 2012).

Scope of the Order

The scope of the order includes all grades and granulation sizes of citric acid, sodium citrate, and potassium citrate in their unblended forms, whether dry or in solution, and regardless of packaging type. The scope also includes blends of citric acid, sodium citrate, and potassium citrate; as well as blends with other ingredients, such as sugar, where the unblended form(s) of citric acid, sodium citrate, and potassium citrate constitute 40 percent or more, by weight, of the blend. The scope of the order also includes all forms of crude calcium citrate, including dicalcium citrate monohydrate, and tricalcium citrate tetrahydrate, which are intermediate products in the production of citric acid, sodium citrate, and potassium citrate. The scope of the order does not include calcium citrate that satisfies the standards set forth in the United States Pharmacopeia and has been mixed with a functional excipient, such as dextrose or starch, where the excipient constitutes at least 2 percent, by weight, of the product. The scope of the order includes the hydrous and anhydrous forms of citric acid, the dihydrate and anhydrous forms of sodium citrate, otherwise known as citric acid sodium salt, and the monohydrate and monopotassium forms of potassium citrate. Sodium citrate also includes both trisodium citrate and monosodium citrate, which are also known as citric acid trisodium salt and citric acid monosodium salt, respectively. Citric acid and sodium citrate are classifiable under 2918.14.0000 and 2918.15.1000 of the Harmonized Tariff Schedule of the United States (HTSUS), respectively. Potassium citrate and crude calcium citrate are classifiable under 2918.15.5000 and 3824.90.9290 of the HTSUS, respectively. Blends that include citric acid, sodium citrate, and potassium citrate are classifiable under 3824.90.9290 of the HTSUS. Although the HTSUS subheadings are provided for convenience and customs purposes, the written description of the merchandise is dispositive.

Intent To Rescind the 2011 Administrative Review, in Part

The Department conducted an internal customs data query for the POR and issued a “no shipments inquiry” message to U.S. Customs and Border Protection (CBP), which posted the message on July 17, 2012.⁴ The results of the customs data query indicated that there were no entries of subject merchandise to the United States by Yixing-Union during the POR. We did not receive any information from CBP contrary to Yixing-Union's claim of no sales, shipments, or exports of subject merchandise to the United States during the POR.

⁴ See Memorandum to the File from Kristen Johnson, Trade Analyst, AD/CVD Operations, Office 3, regarding “Release of Results of Query Performed on Customs and Border Protection Trade Data Base,” (July 10, 2012) and Customs message number 2199302, available at http://addcvd.cbp.gov or IA ACCESS.

Based on our analysis of the shipment data, we preliminarily determine that Yixing-Union had no entries of subject merchandise to the United States during the POR. Therefore, in accordance with 19 CFR 351.213(d)(3), and consistent with our practice,⁵ we preliminarily determine to rescind the review for Yixing-Union. We will continue this administrative review with respect to the RZBC Companies.

⁵ See, e.g., Welded Carbon Steel Standard Pipe and Tube from Turkey: Intent to Rescind Countervailing Duty Administrative Review, in Part, 74 FR 39062 (August 5, 2009).

Public Comment

The Department is setting aside a period for interested parties to raise issues regarding this preliminary determination. Interested parties may submit such comments within 20 calendar days of the publication of this notice. Comments must be filed electronically using IA ACCESS.

We are issuing this notice in accordance with sections 751(a)(1) and 777(i)(1) of the Tariff Act of 1930, as amended, and 19 CFR 351.213(d)(4) of the Department's regulations.

Dated: August 2, 2012.
Christian Marsh,
Deputy Assistant Secretary for Antidumping and Countervailing Duty Operations.

[FR Doc. 2012-19451 Filed 8-7-12; 8:45 am]

BILLING CODE 3510-DS-P